DEPARTMENT OF HOMELAND SECURITY

Coast Guard

33 CFR Part 83

[Docket No. USCG-2009-0948]

RIN 1625-AB43

Inland Navigation Rules

AGENCY: Coast Guard, DHS.

ACTION: Final rule.

SUMMARY: By this final rule, the Coast Guard is placing the Inland Navigation Rules into the Code of Federal Regulations. This move is in accordance with the Coast Guard and Maritime Transportation Act of 2004, which repeals the Inland Navigation Rules as of the effective date of these regulations. Future updates of the Inland Navigation Rules will be accomplished through rulemaking rather than legislation.

DATES: This final rule is effective May 17, 2010.

ADDRESSES: Documents mentioned in this preamble as being available in the docket are part of docket USCG-2009-0948 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0948 in the “Keyword” box, and then clicking “Search.”

FOR FURTHER INFORMATION CONTACT: If you have questions on this rule, call or e-mail Lieutenant Scott Medeiros, Office of Vessel Activities (CG-54133), telephone (202) 372-1565, e-mail Scott.R.Medeiros@uscg.mil. If you have questions on viewing the docket, call Renee V. Wright, Program Manager, Docket Operations, telephone (202) 366-9826.

SUPPLEMENTARY INFORMATION:

Table of Contents for Preamble

I. Abbreviations

II. Basis and Purpose

III. Discussion of Rule

IV. Regulatory Analyses

A. Administrative Procedure Act

B. Regulatory Planning and Review (Executive Order 12866)

C. Small Entities

D. Assistance for Small Entities

E. Collection of Information

F. Federalism

G. Unfunded Mandates Reform Act

H. Taking of Private Property

I. Civil Justice Reform

J. Protection of Children

K. Indian Tribal Governments

L. Energy Effects

M. Technical Standards

N. Environment

I. Abbreviations

DHS Department of Homeland Security

CFR Code of Federal Regulations

NPRM Notice of proposed rulemaking

U.S.C. United States Code

II. Basis and Purpose

In section 303 of the Coast Guard and Maritime Transportation Authorization Act of 2004 (Pub. L. 108-293), Congress repealed Section 2 of the Inland Navigation Rules Act of 1980, found in sections 2001-2038 of Title 33 of the United States Code. These sections contain requirements for all vessels navigating on U.S. inland waters and include rules for:

• Navigation lights;

• Day shapes;

• Whistle signals;

• Conduct of vessels in restricted visibility; and

• Conduct of vessels in sight of each other.

These regulations are commonly known as the “inland rules of the road.”

Congress also amended Section 3 of the Inland Navigation Rules Act of 1980 to grant the Secretary of Homeland Security authority to issue inland navigation regulations. In doing so, Congress specified that repeal of Section 2 (the inland navigation rules then in effect) would not be effective until the effective date of regulations for the inland navigation rules. This guaranteed there would be no gap in application of the inland navigation rules between being removed from the United States Code and being added to the Code of Federal Regulations (CFR).

The Secretary of Homeland Security has delegated authority to develop and enforce navigation safety regulations to the Commandant of the Coast Guard through Department of Homeland Security Delegation 0170.1, Delegation to the Commandant of the Coast Guard. The Coast Guard has decided to use the authority granted by Congress and delegated by the Secretary to move the inland navigation rules to a new Part 83 of Title 33, Code of Federal Regulations. This is the most logical place for the inland navigation rules, as 33 CFR parts 84 through 90 also contain requirements for inland navigation rules as shown in table 1. Moving the main body of the inland navigation rules to a new part 83 is consistent with the intent of Congress and puts all of the inland navigation rules in one place in the Code of Federal Regulations.

Table 1—Existing Inland Navigation Rules in 33 CFR
33 CFR part 84 | Annex I: Positioning and technical details of lights and shapes.
33 CFR part 85 | Annex II: Additional signals for fishing vessels fishing in close proximity.
33 CFR part 86 | Annex III: Technical details of sound and signal appliances.
33 CFR part 87 | Annex IV: Distress signals.
33 CFR part 88 | Annex V: Pilot rules.
33 CFR part 89 | Inland navigation rules: Implementing rules.
33 CFR part 90 | Inland rules: Interpretive rules.

In addition to having all of the inland navigation rules in one location, moving the inland navigation rules from the United States Code to the CFR will make it easier for the Coast Guard to update or revise the rules, and improve the public's opportunity for input regarding changes to the rules. Future updates to the inland navigation rules will be accomplished through rulemaking rather than legislation, and interested persons will be able to participate as required by law through the notice and comment process.

III. Discussion of Rule

Through this final rule, the Coast Guard moves the inland navigation rules in their entirety from 33 U.S.C. 2001-2038 to new 33 CFR part 83, Inland Navigation Rules.

Although the substance of the Inland Navigation Rules has not changed, a number of conforming changes were made to maintain clarity in the Final Rule:

The subparagraphs of each rule were renumbered as necessary to conform to the CFR standard paragraph structure. To conform to CFR standard paragraph structure, second-level (level “(i)”) and third-level (level “(1)”) subparagraphs were renumbered to conform to the CFR standard (now designated as subparagraphs “(1)” and “(i)”, respectively). For example, Rule 38 paragraph (d)(iv)(2) was renumbered to become Rule 38 paragraph (d)(4)(ii).

In § 83.185 Exemptions (Rule 38), paragraphs (a)-(c), references to “chapters 3, 4, and 5 of this title” were changed to the names of the Acts which were codified in the referenced chapter.

Also in § 83.185 Exemptions (Rule 38), in paragraph (d), references to “the effective date of these Rules” were changed to “the effective date of the Inland Navigation Rules Act of 1980 (Pub. L. 96-591). This change avoids the ambiguous term “these Rules” which in the old text referred to the statute, not the new regulations at 33 CFR part 83, and avoids inadvertently resetting compliance deadlines for vessels built before the effective date of this final rule.

Note that most of the statutes referred to in § 83.185 Exemptions (Rule 38) have been repealed. The Coast Guard intends to address the necessity of maintaining these exemptions through a future rulemaking.

IV. Regulatory Analyses

We developed this rule after considering numerous statutes and executive orders related to rulemaking. Below, we summarize our analyses based on 14 of these statutes or executive orders.

A. Administrative Procedure Act

The Coast Guard did not publish a notice of proposed rulemaking (NPRM) for this regulation. Under 5 U.S.C. 553(b)(B), the Coast Guard finds that good cause exists for not publishing an NPRM.

Under the Administrative Procedure Act (APA) “good cause” exception at 5 U.S.C. 553(b)(B), an agency may dispense with notice and comment procedures if the agency finds that following these APA requirements would be “impracticable, unnecessary, or contrary to the public interest.” See Jeffrey L. Lubbers, A Guide to Federal Agency Rulemaking (4th ed.) 105-109 (2006) for a discussion of agency findings of good cause in lieu of notice and comment procedures.

“Unnecessary” for the purpose of the good cause exceptions to the requirements of the APA, refers to “the issuance of a minor rule in which the public is not particularly interested.” United States Department of Justice, Attorney General's Manual on the Administrative Procedure Act at 31 (1947). Its use should be “confined to those situations in which the administrative rule is a routine determination, insignificant in nature and impact, and inconsequential to the industry and to the public.” Utility Solid Waste Activities Group v. EPA, 236 F.3d 749, 755 (DC Cir. 2001), citing South Carolina v. Block, 558 F.Supp. 1004, 1016 (D.S.C. 1983).

This rulemaking makes no change to the substance of the Inland Navigation Rules; the only changes are to which branch of the Federal government manages the Inland Navigation Rules (the Executive, through the Department of Homeland Security and the U.S. Coast Guard, instead of Congress) and where those rules are written (the CFR instead of the U.S.C.). There will be no impact on the mariner or the public, with the exception that a mariner who seeks a change in the inland rules will have the option of requesting a regulatory change under 33 CFR 1.05-20 instead of being required to petition Congress for a legislative change. The APA's good cause exception thus applies to the notice and comment requirement, as that requirement is unnecessary for this rulemaking.

B. Regulatory Planning and Review (Executive Order 12866)

This rule is not a significant regulatory action under section 3(f) of Executive Order 12866, Regulatory Planning and Review, and does not require an assessment of potential costs and benefits under section 6(a)(3) of that Order. The Office of Management and Budget has not reviewed it under that Order.

By this final rule, the Coast Guard moves the Inland Navigation Rules in their entirety from Title 33 U.S.C. to Title 33 CFR part 83. This final rule contains requirements for all vessels navigating on U.S. inland waters, including commercial, recreational, and government vessels. We expect no additional costs to the public or industry from this final rule because all vessels that operate in the United States are currently required by statute to follow the inland navigation rules. This rule will not change the current obligations and responsibilities of mariners.

This final rule allows the Coast Guard to make more timely changes to the regulations, easing the burden of revising the rules. In this case, the Coast Guard would use the rulemaking process rather than seeking legislation.

C. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

A Regulatory Flexibility Act (RFA) analysis is not required when the agency finds good cause that notice and public procedure thereon are impracticable, unnecessary, or contrary to the public interest. The Coast Guard determined that this rule is exempt from notice and comment procedures pursuant to 5 U.S.C. 553(b)(B). Therefore, an RFA analysis is not required for this final rule. See the “Administrative Procedure Act” section of this rule for additional details on this determination.

D. Assistance for Small Entities

Under section 213(a) of the Small Business Regulatory Enforcement Fairness Act of 1996 (Pub. L. 104-121), we offer to assist small entities in understanding the rule so that they can better evaluate its effects on them and participate in the rulemaking. If the rule will affect your small business, organization, or governmental jurisdiction and you have questions concerning its provisions or options for compliance, please consult Lieutenant Scott Medeiros, Office of Waterways Management by telephone at 202-372-1565. The Coast Guard will not retaliate against small entities that question or complain about this rule or any policy or action of the Coast Guard.

Small businesses may send comments on the actions of Federal employees who enforce or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

E. Collection of Information

This rule calls for no new collection of information under the Paperwork Reduction Act of 1995 (44 U.S.C. 3501-3520).

F. Federalism

A rule has implications for federalism under Executive Order 13132, Federalism, if it has a substantial direct effect on State or local governments and would either preempt State law or impose a substantial direct cost of compliance on them. We have analyzed this rule under that Order and have determined that it does not have implications for federalism.

G. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more (adjusted for inflation) in any one year. Though this rule will not result in such an expenditure, we do discuss the effects of this rule elsewhere in this preamble.

H. Taking of Private Property

This rule will not cause a taking of private property or otherwise have taking implications under Executive Order 12630, Governmental Actions and Interference with Constitutionally Protected Property Rights.

I. Civil Justice Reform

This rule meets applicable standards in sections 3(a) and 3(b)(2) of Executive Order 12988, Civil Justice Reform, to minimize litigation, eliminate ambiguity, and reduce burden.

J. Protection of Children

We have analyzed this rule under Executive Order 13045, Protection of Children from Environmental Health Risks and Safety Risks. This rule is not an economically significant rule and does not create an environmental risk to health or risk to safety that may disproportionately affect children.

K. Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

L. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

M. Technical Standards

The National Technology Transfer and Advancement Act (NTTAA) (15 U.S.C. 272 note) directs agencies to use voluntary consensus standards in their regulatory activities unless the agency provides Congress, through the Office of Management and Budget (OMB), with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

N. Environment

We have analyzed this rule under Department of Homeland Security Management Directive 023-01 and Commandant Instruction M16475.lD, which guide the Coast Guard in complying with the National Environmental Policy Act of 1969 (NEPA) (42 U.S.C. 4321-4370f), and have concluded that this action is one of a category of actions which do not individually or cumulatively have a significant effect on the human environment. This rule is categorically excluded under section 2.B.2, figure 2-1, paragraphs (34)(a) and (34)(i) of the Instruction. This rule involves regulations which are editorial or procedural, such as those updating addresses or establishing application procedures, and also involves regulations in aid of navigation. An environmental analysis checklist and a categorical exclusion determination are available in the docket where indicated under ADDRESSES.

List of Subjects in 33 CFR Part 83

Fishing vessels, Navigation (water), Waterways.

For the reasons discussed in the preamble, the Coast Guard adds part 83 to 33 CFR Subchapter E of Chapter I to read as follows:

SUBCHAPTER E—INLAND NAVIGATION RULES

PART 83—RULES

Subpart A—General
Sec.
83.01 Application (Rule 1).
83.02 Responsibility (Rule 2).
83.03 Definitions (Rule 3).
Subpart B—Steering and Sailing Rules
Conduct of Vessels in Any Condition of Visibility
83.04 Application (Rule 4).
83.05 Look-out (Rule 5).
83.06 Safe speed (Rule 6).
83.07 Risk of collision (Rule 7).
83.08 Action to avoid collision (Rule 8).
83.09 Narrow channels (Rule 9).
83.10 Traffic separation schemes (Rule 10).
Conduct of Vessels in Sight of One Another
83.11 Application (Rule 11).
83.12 Sailing vessels (Rule 12).
83.13 Overtaking (Rule 13).
83.14 Head-on situation (Rule 14).
83.15 Crossing situation (Rule 15).
83.16 Action by give-way vessel (Rule 16).
83.17 Action by stand-on vessel (Rule 17).
83.18 Responsibilities between vessels (Rule 18).
Conduct of Vessels in Restricted Visibility
83.19 Conduct of vessels in restricted visibility (Rule 19).
Subpart C—Lights and Shapes
83.20 Application (Rule 20).
83.21 Definitions (Rule 21).
83.22 Visibility of lights (Rule 22).
83.23 Power-driven vessels underway (Rule 23).
83.24 Towing and pushing (Rule 24).
83.25 Sailing vessels underway and vessels under oars (Rule 25).
83.26 Fishing vessels (Rule 26).
83.27 Vessels not under command or restricted in their ability to maneuver (Rule 27).
83.28 [Reserved](Rule 28).
83.29 Pilot vessels (Rule 29).
83.30 Anchored vessels and vessels aground (Rule 30).
83.31 Seaplanes (Rule 31).
Subpart D—Sound and Light Signals
83.32 Definitions (Rule 32).
83.33 Equipment for sound signals (Rule 33).
83.34 Maneuvering and warning signals (Rule 34).
83.35 Sound signals in restricted visibility (Rule 35).
83.36 Signals to attract attention (Rule 36).
83.37 Distress signals (Rule 37).
Subpart E—Exemptions
83.38 Exemptions (Rule 38).

Authority: Sec. 303, Pub. L. 108-293, 118 Stat. 1028 (33 U.S.C. 2001); Department of Homeland Security Delegation No. 0170.1.

Subpart A—General

§ 83.01 Application (Rule 1).

(a) United States inland waters and Canadian waters of the Great Lakes. These Rules apply to all vessels upon the inland waters of the United States, and to vessels of the United States on the Canadian waters of the Great Lakes to the extent that there is no conflict with Canadian law.

(b) International Regulations.

(1) These Rules constitute special rules made by an appropriate authority within the meaning of Rule 1(b) of the International Regulations.

(2) All vessels complying with the construction and equipment requirements of the International Regulations are considered to be in compliance with these Rules.

(c) Special rules. Nothing in these Rules shall interfere with the operation of any special rules made by the Secretary of the Navy with respect to additional station or signal lights and shapes or whistle signals for ships of war and vessels proceeding under convoy, or by the Secretary with respect to additional station or signal lights and shapes for fishing vessels engaged in fishing as a fleet. These additional station or signal lights and shapes or whistle signals shall, so far as possible, be such that they cannot be mistaken for any light, shape, or signal authorized elsewhere under these Rules. Notice of such special rules shall be published in the Federal Register and, after the effective date specified in such notice, they shall have effect as if they were a part of these Rules.

(d) Traffic regulation schemes; vessel traffic service regulations. Traffic separation schemes may be established for the purpose of these Rules. Vessel traffic service regulations may be in effect in certain areas.

(e) Alternative compliance. Whenever the Secretary determines that a vessel or class of vessels of special construction or purpose cannot comply fully with the provisions of any of these Rules with respect to the number, position, range, or arc of visibility of lights or shapes, as well as to the disposition and characteristics of sound-signaling appliances, the vessel shall comply with such other provisions in regard to the number, position, range, or arc of visibility of lights or shapes, as well as to the disposition and characteristics of sound-signaling appliances, as the Secretary shall have determined to be the closest possible compliance with these Rules. The Secretary may issue a certificate of alternative compliance for a vessel or class of vessels specifying the closest possible compliance with these Rules. The Secretary of the Navy shall make these determinations and issue certificates of alternative compliance for vessels of the Navy.

(f) Acceptance of certificates of alternative compliance from contracting parties to International Regulations. The Secretary may accept a certificate of alternative compliance issued by a contracting party to the International Regulations if he determines that the alternative compliance standards of the contracting party are substantially the same as those of the United States.

§ 83.02 Responsibility (Rule 2).

(a) Exoneration. Nothing in these Rules shall exonerate any vessel, or the owner, master, or crew thereof, from the consequences of any neglect to comply with these Rules or of the neglect of any precaution which may be required by the ordinary practice of seamen, or by the special circumstances of the case.

(b) Departure from rules when necessary to avoid immediate danger. In construing and complying with these Rules due regard shall be had to all dangers of navigation and collision and to any special circumstances, including the limitations of the vessels involved, which may make a departure from these Rules necessary to avoid immediate danger.

§ 83.03 Definitions (Rule 3).

For the purpose of these Rules and this chapter, except where the context otherwise requires:

(a) Vessel includes every description of water craft, including nondisplacement craft and seaplanes, used or capable of being used as a means of transportation on water;

(b) Power-driven vessel means any vessel propelled by machinery;

(c) Sailing vessel means any vessel under sail provided that propelling machinery, if fitted, is not being used;

(d) Vessel engaged in fishing means any vessel fishing with nets, lines, trawls, or other fishing apparatus which restricts maneuverability, but does not include a vessel fishing with trolling lines or other fishing apparatus which do not restrict maneuverability;

(e) Seaplane includes any aircraft designed to maneuver on the water;

(f) Vessel not under command means a vessel which, through some exceptional circumstance, is unable to maneuver as required by these Rules and is therefore unable to keep out of the way of another vessel;

(g) Vessel restricted in her ability to maneuver means a vessel which, from the nature of her work, is restricted in her ability to maneuver as required by these Rules and is therefore unable to keep out of the way of another vessel; vessels restricted in their ability to maneuver include, but are not limited to:

(1) A vessel engaged in laying, servicing, or picking up a navigation mark, submarine cable, or pipeline;

(2) A vessel engaged in dredging, surveying, or underwater operations;

(3) A vessel engaged in replenishment or transferring persons, provisions, or cargo while underway;

(4) A vessel engaged in the launching or recovery of aircraft;

(5) A vessel engaged in mineclearance operations; and

(6) A vessel engaged in a towing operation such as severely restricts the towing vessel and her tow in their ability to deviate from their course.

(h) Underway means that a vessel is not at anchor, or

made fast to the shore, or aground;

(i) Length and breadth of a vessel mean her length overall and greatest breadth;

(j) Vessels shall be deemed to be in sight of one another only when one can be observed visually from the other;

(k) Restricted visibility means any condition in which visibility is restricted by fog, mist, falling snow, heavy rainstorms, sandstorms, or any other similar causes;

(l) Western Rivers means the Mississippi River, its tributaries, South Pass, and Southwest Pass, to the navigational demarcation lines dividing the high seas from harbors, rivers, and other inland waters of the United States, and the Port Allen-Morgan City Alternate Route, and that part of the Atchafalaya River above its junction with the Port Allen-Morgan City Alternate Route including the Old River and the Red River;

(m) Great Lakes means the Great Lakes and their connecting and tributary waters including the Calumet River as far as the Thomas J. O'Brien Lock and Controlling Works (between mile 326 and 327), the Chicago River as far as the east side of the Ashland Avenue Bridge (between mile 321 and 322), and the Saint Lawrence River as far east as the lower exit of Saint Lambert Lock;

(n) Secretary means the Secretary of the Department in which the Coast Guard is Operating;

(o) Inland Waters means the navigable waters of the United States shoreward of the navigational demarcation lines dividing the high seas from harbors, rivers, and other inland waters of the United States and the waters of the Great Lakes on the United States side of the International Boundary;

(p) Inland Rules or Rules mean the Inland Navigational Rules and the annexes thereto, which govern the conduct of vessels and specify the lights, shapes, and sound signals that apply on inland waters; and

(q) International Regulations means the International Regulations for Preventing Collisions at Sea, 1972, including annexes currently in force for the United States.

Subpart B—Steering and Sailing Rules

Conduct of Vessels in Any Condition of Visibility

§ 83.04 Application (Rule 4).

Rules in this subpart apply in any condition of visibility.

§ 83.05 Look-out (Rule 5).

Every vessel shall at all times maintain a proper look-out by sight and hearing as well as by all available means appropriate in the prevailing circumstances and conditions so as to make a full appraisal of the situation and of the risk of collision.

§ 83.06 Safe speed (Rule 6).

Every vessel shall at all times proceed at a safe speed so that she can take proper and effective action to avoid collision and be stopped within a distance appropriate to the prevailing circumstances and conditions.

In determining a safe speed the following factors shall be among those taken into account:

(a) By all vessels:

(1) The state of visibility;

(2) The traffic density including concentration of fishing vessels or any other vessels;

(3) The maneuverability of the vessel with special reference to stopping distance and turning ability in the prevailing conditions;

(4) At night the presence of background light such as from shores lights or from back scatter of her own lights;

(5) The state of wind, sea, and current, and the proximity of navigational hazards;

(6) The draft in relation to the available depth of water.

(b) Additionally, by vessels with operational radar:

(1) The characteristics, efficiency and limitations of the radar equipment;

(2) Any constraints imposed by the radar range scale in use;

(3) The effect on radar detection of the sea state, weather, and other sources of interference;

(4) The possibility that small vessels, ice and other floating objects may not be detected by radar at an adequate range;

(5) The number, location, and movement of vessels detected by radar; and

(6) The more exact assessment of the visibility that may be possible when radar is used to determine the range of vessels or other objects in the vicinity.

§ 83.07 Risk of collision (Rule 7).

(a) Determination if risk exists. Every vessel shall use all available means appropriate to the prevailing circumstances and conditions to determine if risk of collision exists. If there is any doubt such risk shall be deemed to exist.

(b) Radar. Proper use shall be made of radar equipment if fitted and operational, including long-range scanning to obtain early warning of risk of collision and radar plotting or equivalent systematic observation of detected objects.

(c) Scanty information. Assumptions shall not be made on the basis of scanty information, especially scanty radar information.

(d) Considerations taken into account in determining if risk exists. In determining if risk of collision exists the following considerations shall be among those taken into account:

(1) Such risk shall be deemed to exist if the compass bearing of an approaching vessel does not appreciably change; and

(2) Such risk may sometimes exist even when an appreciable bearing change is evident, particularly when approaching a very large vessel or a tow or when approaching a vessel at close range.

§ 83.08 Action to avoid collision (Rule 8).

(a) General characteristics of action taken to avoid collision. Any action taken to avoid collision shall, if the circumstances of the case admit, be positive, made in ample time and with due regard to the observance of good seamanship.

(b) Readily apparent alterations in course or speed. Any alteration of course or speed to avoid collision shall, if the circumstances of the case admit, be large enough to be readily apparent to another vessel observing visually or by radar; a succession of small alterations of course or speed should be avoided.

(c) Alteration of course to avoid close-quarters situation. If there is sufficient sea room, alteration of course alone may be the most effective action to avoid a close-quarters situation provided that it is made in good time, is substantial and does not result in another close-quarters situation.

(d) Action to result in passing at safe distance. Action taken to avoid collision with another vessel shall be such as to result in passing at a safe distance. The effectiveness of the action shall be carefully checked until the other vessel is finally past and clear.

(e) Slackening of vessel speed; stopping or reversing means of propulsion. If necessary to avoid collision or allow more time to assess the situation, a vessel shall slacken her speed or take all way off by stopping or reversing her means of propulsion.

(f) Early action to allow room for safe passage:

(1) A vessel which, by any of these Rules, is required not to impede the passage or safe passage of another vessel shall, when required by the circumstances of the case, take early action to allow sufficient sea room for the safe passage of the other vessel.

(2) A vessel required not to impede the passage or safe passage of another vessel is not relieved of this obligation if approaching the other vessel so as to involve risk of collision and shall, when taking action, have full regard to the action which may be required by the Rules of this part.

(3) A vessel the passage of which is not to be impeded remains fully obliged to comply with the Rules of this part when the two vessels are approaching one another so as to involve risk of collision.

§ 83.09 Narrow channels (Rule 9).

(a) Keeping near to outer limit of channel or fairway which lies on vessel's starboard side; exception.

(1) A vessel proceeding along the course of a narrow channel or fairway shall keep as near to the outer limit of the channel or fairway which lies on her starboard side as is safe and practicable.

(2) Notwithstanding paragraph (a)(1) and Rule 14(a), a power-driven vessel operating in narrow channels or fairways on the Great Lakes, Western Rivers, or waters specified by the Secretary, and proceeding downbound with a following current shall have the right-of-way over an upbound vessel, shall propose the manner and place of passage, and shall initiate the maneuvering signals prescribed by Rule 34(a)(1), as appropriate. The vessel proceeding upbound against the current shall hold as necessary to permit safe passing.

(b) Vessels of less than 20 meters in length; sailing vessels. A vessel of less than 20 meters in length or a sailing vessel shall not impede the passage of a vessel that can safely navigate only within a narrow channel or fairway.

(c) Vessels engaged in fishing. A vessel engaged in fishing shall not impede the passage of any other vessel navigating within a narrow channel or fairway.

(d) Crossing narrow channels or fairways. A vessel shall not cross a narrow channel or fairway if such crossing impedes the passage of a vessel which can safely navigate only within that channel or fairway. The latter vessel shall use the danger signal prescribed in Rule 34(d) if in doubt as to the intention of the crossing vessel.

(e) Overtaking vessels.

(1) In a narrow channel or fairway when overtaking, the power-driven vessel intending to overtake another power-driven vessel shall indicate her intention by sounding the appropriate signal prescribed in Rule 34(c) and take steps to permit safe passing. The power-driven vessel being overtaken, if in agreement, shall sound the same signal and may, if specifically agreed to, take steps to permit safe passing. If in doubt she shall sound the danger signal prescribed in Rule 34(d).

(2) This Rule does not relieve the overtaking vessel of her obligation under Rule 13.

(f) Areas of obscured visibility due to intervening obstructions. A vessel nearing a bend or an area of a narrow channel or fairway where other vessels may be obscured by an intervening obstruction shall navigate with particular alertness and caution and shall sound the appropriate signal prescribed in Rule 34(e).

(g) Avoidance of anchoring in narrow channels. Every vessel shall, if the circumstances of the case admit, avoid anchoring in a narrow channel.

§ 83.10 Traffic separation schemes (Rule 10).

(a) Obligations under other Rules unaffected. This Rule applies to traffic separation schemes and does not relieve any vessel of her obligation under any other Rule.

(b) Duties for vessel using scheme. A vessel using a traffic separation scheme shall:

(1) Proceed in the appropriate traffic lane in the general direction of traffic flow for that lane;

(2) So far as practicable keep clear of a traffic separation line or separation zone;

(3) Normally join or leave a traffic lane at the termination of the lane, but when joining or leaving from either side shall do so at as small an angle to the general direction of traffic flow as practicable.

(c) Crossing traffic lanes. A vessel shall, so far as practicable, avoid crossing traffic lanes but if obliged to do so shall cross on a heading as nearly as practicable at right angles to the general direction of traffic flow.

(d) Use of inshore traffic lane.

(1) A vessel shall not use an inshore traffic zone when she can safely use the appropriate traffic lane within the adjacent traffic separation scheme. However, vessels of less than twenty meters in length, sailing vessels, and vessels engaged in fishing may use the inshore traffic zone.

(2) Notwithstanding subparagraph (d)(1), a vessel may use an inshore traffic zone when en route to or from a port, offshore installation or structure, pilot station, or any other place situated within the inshore traffic zone, or to avoid immediate danger.

(e) Entering separation zone or crossing separation line. A vessel other than a crossing vessel or a vessel joining or leaving a lane shall not normally enter a separation zone or cross a separation line except:

(1) In cases of emergency to avoid immediate danger; or

(2) To engage in fishing within a separation zone.

(f) Caution in areas near termination of scheme. A vessel navigating in areas near the terminations of traffic separation schemes shall do so with particular caution.

(g) Anchoring. A vessel shall so far as practicable avoid anchoring in a traffic separation scheme or in areas near its terminations.

(h) Avoidance of scheme. A vessel not using a traffic separation scheme shall avoid it by as wide a margin as is practicable.

(i) Fishing vessels. A vessel engaged in fishing shall not impede the passage of any vessel following a traffic lane.

(j) Power-driven vessels. A vessel of less than twenty meters in length or a sailing vessel shall not impede the safe passage of a power-driven vessel following a traffic lane.

(k) Exemption; maintenance of safety of navigation. A vessel restricted in her ability to maneuver when engaged in an operation for the maintenance of safety of navigation in a traffic separation scheme is exempted from complying with this Rule to the extent necessary to carry out the operation.

(l) Exemption; laying, servicing, or picking up submarine cable.

A vessel restricted in her ability to maneuver when engaged in an operation for the laying, servicing, or picking up of a submarine cable, within a traffic separation scheme, is exempted from complying with this Rule to the extent necessary to carry out the operation.

Conduct of Vessels in Sight of One Another

§ 83.11 Application (Rule 11).

Rules in this subpart apply to vessels in sight of one another.

§ 83.12 Sailing vessels (Rule 12).

(a) Keeping out of the way. When two sailing vessels are approaching one another, so as to involve risk of collision, one of them shall keep out of the way of the other as follows:

(1) When each has the wind on a different side, the vessel which has the wind on the port side shall keep out of the way of the other;

(2) When both have the wind on the same side, the vessel which is to windward shall keep out of the way of the vessel which is to leeward; and

(3) If a vessel with the wind on the port side sees a vessel to windward and cannot determine with certainty whether the other vessel has the wind on the port or on the starboard side, she shall keep out of the way of the other.

(b) Windward side. For the purpose of this Rule the windward side shall be deemed to be the side opposite to that on which the mainsail is carried or, in the case of a square-rigged vessel, the side opposite to that on which the largest fore-and-aft sail is carried.

§ 83.13 Overtaking (Rule 13).

(a) Overtaking vessel to keep out of the overtaken vessel's way. Notwithstanding anything contained in Rules 4 through 18, any vessel overtaking any other shall keep out of the way of the vessel being overtaken.

(b) Overtaking vessel defined. A vessel shall be deemed to be overtaking when coming up with another vessel from a direction more than 22.5 degrees abaft her beam; that is, in such a position with reference to the vessel she is overtaking, that at night she would be able to see only the sternlight of that vessel but neither of her sidelights.

(c) Assumption that vessel is overtaking another in cases of doubt. When a vessel is in any doubt as to whether she is overtaking another, she shall assume that this is the case and act accordingly.

(d) Overtaking vessel to become crossing vessel only when finally past and clear. Any subsequent alteration of the bearing between the two vessels shall not make the overtaking vessel a crossing vessel within the meaning of these Rules or relieve her of the duty of keeping clear of the overtaken vessel until she is finally past and clear.

§ 83.14 Head-on situation (Rule 14).

(a) Course alterations to starboard; port side passage. Unless otherwise agreed, when two power-driven vessels are meeting on reciprocal or nearly reciprocal courses so as to involve risk of collision each shall alter her course to starboard so that each shall pass on the port side of the other.

(b) Existence of head-on situation. Such a situation shall be deemed to exist when a vessel sees the other ahead or nearly ahead and by night she could see the masthead lights of the other in a line or nearly in a line or both sidelights and by day she observes the corresponding aspect of the other vessel.

(c) Assumption that head-on situation exists in cases of doubt. When a vessel is in any doubt as to whether such a situation exists she shall assume that it does exist and act accordingly.

(d) Vessel operating on Great Lakes, Western Rivers, or other specified waters, and proceeding downbound with following current. Notwithstanding paragraph (a) of this Rule, a power-driven vessel operating on the Great Lakes, Western Rivers, or waters specified by the Secretary, and proceeding downbound with a following current shall have the right-of-way over an upbound vessel, shall propose the manner of passage, and shall initiate the maneuvering signals prescribed by Rule 34(a)(1), as appropriate.

§ 83.15 Crossing situation (Rule 15).

(a) Vessel which must keep out of the other vessel's way. When two power-driven vessels are crossing so as to involve risk of collision, the vessel which has the other on her starboard side shall keep out of the way and shall, if the circumstances of the case admit, avoid crossing ahead of the other vessel.

(b) Vessels crossing river. Notwithstanding paragraph (a), on the Great Lakes, Western Rivers, or water specified by the Secretary, a power-driven vessel crossing a river shall keep out of the way of a power-driven vessel ascending or descending the river.

§ 83.16 Action by give-way vessel (Rule 16).

Every vessel which is directed to keep out of the way of another vessel shall, so far as possible, take early and substantial action to keep well clear.

§ 83.17 Action by stand-on vessel (Rule 17).

(a) Stand-on vessel to keep course and speed; action allowed when give-way vessel fails to take appropriate action.

(1) Where one of two vessels is to keep out of the way, the other shall keep her course and speed.

(2) The latter vessel may, however, take action to avoid collision by her maneuver alone, as soon as it becomes apparent to her that the vessel required to keep out of the way is not taking appropriate action in compliance with these Rules.

(b) Action by stand-on vessel allowed when action by give-way vessel alone cannot avoid collision. When, from any cause, the vessel required to keep her course and speed finds herself so close that collision cannot be avoided by the action of the give-way vessel alone, she shall take such action as will best aid to avoid collision.

(c) Crossing situations. A power-driven vessel which takes action in a crossing situation in accordance with subparagraph (a)(2) of this Rule to avoid collision with another power-driven vessel shall, if the circumstances of the case admit, not alter course to port for a vessel on her own port side.

(d) Give-way vessel not relieved of obligation to keep out of the way. This Rule does not relieve the give-way vessel of her obligation to keep out of the way.

§ 83.18 Responsibilities between vessels (Rule 18).

Except where Rules 9, 10, and 13 otherwise require:

(a) Power-driven vessels underway. A power-driven vessel underway shall keep out of the way of:

(1) A vessel not under command;

(2) A vessel restricted in her ability to maneuver;

(3) A vessel engaged in fishing; and

(4) A sailing vessel.

(b) Sailing vessels underway. A sailing vessel underway shall keep out of the way of:

(1) A vessel not under command;

(2) A vessel restricted in her ability to maneuver; and

(3) A vessel engaged in fishing.

(c) Vessels engaged in fishing when underway. A vessel engaged in fishing when underway shall, so far as possible, keep out of the way of:

(1) A vessel not under command; and

(2) A vessel restricted in her ability to maneuver.

(d) Seaplanes on the water. A seaplane on the water shall, in general, keep well clear of all vessels and avoid impeding their navigation. In circumstances, however, where risk of collision exists, she shall comply with the Rules of this part.

Conduct of Vessels in Restricted Visibility

§ 83.19 Conduct of vessels in restricted visibility (Rule 19).

(a) Vessels to which rule applies. This Rule applies to vessels not in sight of one another when navigating in or near an area of restricted visibility.

(b) Safe speed; engines ready for immediate maneuver. Every vessel shall proceed at a safe speed adapted to the prevailing circumstances and conditions of restricted visibility. A power-driven vessel shall have her engines ready for immediate maneuver.

(c) Due regard to prevailing circumstances and conditions. Every vessel shall have due regard to the prevailing circumstances and conditions of restricted visibility when complying with Rules 4 through 10.

(d) Detection of vessel by radar alone. A vessel which detects by radar alone the presence of another vessel shall determine if a close-quarters situation is developing or risk of collision exists. If so, she shall take avoiding action in ample time, provided that when such action consists of an alteration of course, so far as possible the following shall be avoided:

(1) An alteration of course to port for a vessel forward of the beam, other than for a vessel being overtaken; and

(2) An alteration of course toward a vessel abeam or abaft the beam.

(e) Reduction of speed to minimum. Except where it has been determined that a risk of collision does not exist, every vessel which hears apparently forward of her beam the fog signal of another vessel, or which cannot avoid a close-quarters situation with another vessel forward of her beam, shall reduce her speed to the minimum at which she can be kept on course. She shall if necessary take all her way off and, in any event, navigate with extreme caution until danger of collision is over.

Subpart C—Lights and Shapes

§ 83.20 Application (Rule 20).

(a) Compliance in all weathers. Rules in this part shall be complied with in all weathers.

(b) Rules concerning lights complied with from sunset to sunrise; other lights. The Rules concerning lights shall be complied with from sunset to sunrise, and during such times no other lights shall be exhibited, except such lights as cannot be mistaken for the lights specified in these Rules or do not impair their visibility or distinctive character, or interfere with the keeping of a proper lookout.

(c) Lights during daylight hours in restricted visibility; other circumstances. The lights prescribed by these Rules shall, if carried, also be exhibited from sunrise to sunset in restricted visibility and may be exhibited in all other circumstances when it is deemed necessary.

(d) Rules concerning shapes; compliance by day. The Rules concerning shapes shall be complied with by day.

(e) Annex. The lights and shapes specified in these Rules shall comply with the provisions of Annex I of these Rules.

§ 83.21 Definitions (Rule 21).

(a) Masthead light means a white light placed over the fore and aft centerline of the vessel showing an unbroken light over an arc of the horizon of 225 degrees and so fixed as to show the light from right ahead to 22.5 degrees abaft the beam on either side of the vessel, except that on a vessel of less than 12 meters in length the masthead light shall be placed as nearly as practicable to the fore and aft centerline of the vessel.

(b) Sidelights mean a green light on the starboard side and a red light on the port side each showing an unbroken light over an arc of the horizon of 112.5 degrees and so fixed as to show the light from right ahead to 22.5 degrees abaft the beam on its respective side. On a vessel of less than 20 meters in length the side lights may be combined in one lantern carried on the fore and aft centerline of the vessel, except that on a vessel of less than 12 meters in length the sidelights when combined in one lantern shall be placed as nearly as practicable to the fore and aft centerline of the vessel.

(c) Sternlight means a white light placed as nearly as practicable at the stern showing an unbroken light over an arc of the horizon of 135 degrees and so fixed as to show the light 67.5 degrees from right aft on each side of the vessel.

(d) Towing light means a yellow light having the same characteristics as the ”sternlight” defined in paragraph (c) of this Rule.

(e) All-round light means a light showing an unbroken light over an arc of the horizon of 360 degrees.

(f) Flashing light means a light flashing at regular intervals at a frequency of 120 flashes or more per minute.

(g) Special flashing light means a yellow light flashing at regular intervals at a frequency of 50 to 70 flashes per minute, placed as far forward and as nearly as practicable on the fore and aft centerline of the tow and showing an unbroken light over an arc of the horizon of not less than 180 degrees nor more than 225 degrees and so fixed as to show the light from right ahead to abeam and no more than 22.5 degrees abaft the beam on either side of the vessel.

§ 83.22 Visibility of lights (Rule 22).

The lights prescribed in these Rules shall have an intensity as specified in Annex I to these Rules, so as to be visible at the following minimum ranges:

(a) Vessel of 50 meters or more in length. In a vessel of 50 meters or more in length:

(1) A masthead light, 6 miles;

(2) A sidelight, 3 miles;

(3) A sternlight, 3 miles;

(4) A towing light, 3 miles;

(5) A white, red, green or yellow all-round light, 3 miles; and

(6) A special flashing light, 2 miles.

(b) Vessels of 12 meters or more in length but less than 50 meters in length. In a vessel of 12 meters or more in length but less than 50 meters in length:

(1) A masthead light, 5 miles; except that where the length of the vessel is less than 20 meters, 3 miles;

(2) A sidelight, 2 miles;

(3) A sternlight, 2 miles;

(4) A towing light, 2 miles;

(5) A white, red, green or yellow all-round light, 2 miles; and

(6) A special flashing light, 2 miles.

(c) Vessels of less than 12 meters in length. In a vessel of less than 12 meters in length:

(1) A masthead light, 2 miles;

(2) A sidelight, 1 mile;

(3) A sternlight, 2 miles;

(4) A towing light, 2 miles;

(5) A white, red, green or yellow all-round light, 2 miles; and

(6) A special flashing light, 2 miles.

(d) An inconspicuous, partly submerged vessel or objects being towed. In an inconspicuous, partly submerged vessel or objects being towed:

(1) A white all-round light, 3 miles.

§ 83.23 Power-driven vessels underway (Rule 23).

(a) Lights exhibited by power-driven vessels underway. A power-driven vessel underway shall exhibit:

(1) A masthead light forward;

(2) A second masthead light abaft of and higher than the forward one; except that a vessel of less than 50 meters in length shall not be obliged to exhibit such light but may do so;

(3) Sidelights; and

(4) A sternlight.

(b) Air-cushion vessels. An air-cushion vessel when operating in the nondisplacement mode shall, in addition to the lights prescribed in paragraph (a) of this Rule, exhibit an all-round flashing yellow light where it can best be seen.

(c) Alternative lights for power-driven vessels of less than 12 meters in length. A power-driven vessel of less than 12 meters in length may, in lieu of the lights prescribed in paragraph (a) of this Rule, exhibit an all-round white light and sidelights.

(d) Power-driven vessels when operating on Great Lakes. A power-driven vessel when operating on the Great Lakes may carry an all-round white light in lieu of the second masthead light and sternlight prescribed in paragraph (a) of this Rule. The light shall be carried in the position of the second masthead light and be visible at the same minimum range.

§ 83.24 Towing and pushing (Rule 24).

(a) A power-driven vessel when towing astern. A power-driven vessel when towing astern shall exhibit:

(1) Instead of the light prescribed either in Rule 23(a)(1) or 23(a)(2), two masthead lights in a vertical line. When the length of the tow, measuring from the stern of the towing vessel to the after end of the tow exceeds 200 meters, three such lights in a vertical line;

(2) Sidelights;

(3) A sternlight;

(4) A towing light in a vertical line above the sternlight; and

(5) When the length of the tow exceeds 200 meters, a diamond shape where it can best be seen.

(b) Pushing vessel and pushed vessel rigidly connected in composite unit. When a pushing vessel and a vessel being pushed ahead are rigidly connected in a composite unit they shall be regarded as a power-driven vessel and exhibit the lights prescribed in Rule 23.

(c) A power-driven vessel when pushing ahead or towing alongside. A power-driven vessel when pushing ahead or towing alongside, except as required by paragraphs (b) and (1) of this Rule, shall exhibit:

(1) Instead of the light prescribed either in Rule 23(a)(1) or 23(a)(2), two masthead lights in a vertical line;

(2) Sidelights; and

(3) Two towing lights in a vertical line.

(d) Compliance with other requirements. A power-driven vessel to which paragraphs (a) or (c) of this Rule apply shall also comply with Rule 23(a)(1) and 23(a)(2).

(e) Vessels being towed. A vessel or object other than those referred to in paragraph (g) of this Rule being towed shall exhibit:

(1) Sidelights;

(2) A sternlight; and

(3) When the length of the tow exceeds 200 meters, a diamond shape where it can best be seen.

(f) Vessels being towed alongside or pushed in a group. Provided that any number of vessels being towed alongside or pushed in a group shall be lighted as one vessel, except as provided in paragraph (3)—

(1) A vessel being pushed ahead, not being part of a composite unit, shall exhibit at the forward end, sidelights and a special flashing light;

(2) A vessel being towed alongside shall exhibit a sternlight and at the forward end, sidelights and a special flashing light; and

(3) When vessels are towed alongside on both sides of the towing vessels a sternlight shall be exhibited on the stern of the outboard vessel on each side of the towing vessel, and a single set of sidelights as far forward and as far outboard as is practicable, and a single special flashing light.

(g) An inconspicuous, partly submerged vessel or object being towed. An inconspicuous, partly submerged vessel or object being towed shall exhibit:

(1) If it is less than 25 meters in breadth, one all-round white light at or near each end;

(2) If it is 25 meters or more in breadth, four all-round white lights to mark its length and breadth;

(3) If it exceeds 100 meters in length, additional all-round white lights between the lights prescribed in subparagraphs (1) and (2) so that the distance between the lights shall not exceed 100 meters: Provided, that any vessels or objects being towed alongside each other shall be lighted as one vessel or object;

(4) A diamond shape at or near the aftermost extremity of the last vessel or object being towed; and

(5) The towing vessel may direct a searchlight in the direction of the tow to indicate its presence to an approaching vessel.

(h) Alternative lighting of vessel or object being towed. Where from any sufficient cause it is impracticable for a vessel or object being towed to exhibit the lights prescribed in paragraph (e) or (g) of this Rule, all possible measures shall be taken to light the vessel or object towed or at least to indicate the presence of the unlighted vessel or object.

(i) Western Rivers or other specified waters; exception. Notwithstanding paragraph (c), on the Western Rivers (except below the Huey P. Long Bridge on the Mississippi River) and on waters specified by the Secretary, a power-driven vessel when pushing ahead or towing alongside, except as paragraph (b) applies, shall exhibit:

(1) Sidelights; and

(2) Two towing lights in a vertical line.

(j) Towing another vessel in distress or otherwise in need of assistance. Where from any sufficient cause it is impracticable for a vessel not normally engaged in towing operations to display the lights prescribed by paragraph (a), (c) or (i) of this Rule, such vessel shall not be required to exhibit those lights when engaged in towing another vessel in distress or otherwise in need of assistance. All possible measures shall be taken to indicate the nature of the relationship between the towing vessel and the vessel being assisted. The searchlight authorized by Rule 36 may be used to illuminate the tow.

§ 83.25 Sailing vessels underway and vessels under oars (Rule 25).

(a) Sailing vessels underway. A sailing vessel underway shall exhibit:

(1) Sidelights; and

(2) A sternlight.

(b) Sailing vessels of less than 20 meters in length. In a sailing vessel of less than 20 meters in length the lights prescribed in paragraph (a) of this Rule may be combined in one lantern carried at or near the top of the mast where it can best be seen.

(c) Additional lights. A sailing vessel underway may, in addition to the lights prescribed in paragraph (a) of this Rule, exhibit at or near the top of the mast, where they can best be seen, two all-round lights in a vertical line, the upper being red and the lower green, but these lights shall not be exhibited in conjunction with the combined lantern permitted by paragraph (b) of this Rule.

(d) Sailing vessels of less than 7 meters in length; vessels under oars.

(1) A sailing vessel of less than 7 meters in length shall, if practicable, exhibit the lights prescribed in paragraph (a) or (b) of this Rule, but if she does not, she shall have ready at hand an electric torch or lighted lantern showing a white light which shall be exhibited in sufficient time to prevent collision.

(2) A vessel under oars may exhibit the lights prescribed in this Rule for sailing vessels, but if she does not, she shall have ready at hand an electric torch or lighted lantern showing a white light which shall be exhibited in sufficient time to prevent collision.

(e) Vessels proceeding under sail. A vessel proceeding under sail when also being propelled by machinery shall exhibit forward where it can best be seen a conical shape, apex downward. A vessel of less than 12 meters in length is not required to exhibit this shape, but may do so.

§ 83.26 Fishing vessels (Rule 26).

(a) Exhibition of only prescribed lights and shapes. A vessel engaged in fishing, whether underway or at anchor, shall exhibit only the lights and shapes prescribed in this Rule.

(b) Vessels engaged in trawling. A vessel when engaged in trawling, by which is meant the dragging through the water of a dredge net or other apparatus used as a fishing appliance, shall exhibit:

(1) Two all-round lights in a vertical line, the upper being green and the lower white, or a shape consisting of two cones with their apexes together in a vertical line one above the other;

(2) A masthead light abaft of and higher than the all-round green light; a vessel of less than 50 meters in length shall not be obliged to exhibit such a light but may do so; and

(3) When making way through the water, in addition to the lights prescribed in this paragraph, sidelights and a sternlight.

(c)Vessels engaged in fishing other than trawling. A vessel engaged in fishing, other than trawling, shall exhibit:

(1) Two all-round lights in a vertical line, the upper being green and the lower white, or a shape consisting of two cones with their apexes together in a vertical line one above the other;

(2) A masthead light abaft of and higher than the all-round green light; a vessel of less than 50 meters in length shall not be obliged to exhibit such a light but may do so; and

(3) When making way through the water, in addition to the lights prescribed in this paragraph, sidelights and a sternlight.

(c) Vessels engaged in fishing other than trawling. A vessel engaged in fishing, other than trawling, shall exhibit:

(1) Two all-round lights in a vertical line, the upper being red and the lower white, or a shape consisting of two cones with apexes together in a vertical line one above the other;

(2) When there is outlying gear extending more than 150 meters horizontally from the vessel, an all-round white light or a cone apex upward in the direction of the gear; and

(3) When making way through the water, in addition to the lights prescribed in this paragraph, sidelights and a sternlight.

(d) Vessels engaged in fishing in close proximity to other vessels engaged in fishing. The additional signals described in Annex II to these Rules apply to a vessel engaged in fishing in close proximity to other vessels engaged in fishing.

(e) Vessels when not engaged in fishing. A vessel when not engaged in fishing shall not exhibit the lights or shapes prescribed in this Rule, but only those prescribed for a vessel of her length.

§ 83.27 Vessels not under command or restricted in their ability to maneuver (Rule 27).

(a) Vessels not under command. A vessel not under command shall exhibit:

(1) Two all-round red lights in a vertical line where they can best be seen;

(2) Two balls or similar shapes in a vertical line where they can best be seen; and

(iii) When making way through the water, in addition to the lights prescribed in this paragraph, sidelights and a sternlight.

(b) Vessels restricted in their ability to maneuver. A vessel restricted in her ability to maneuver, except a vessel engaged in mineclearance operations, shall exhibit:

(1) Three all-round lights in a vertical line where they can best be seen. The highest and lowest of these lights shall be red and the middle light shall be white;

(2) Three shapes in a vertical line where they can best be seen. The highest and lowest of these shapes shall be balls and the middle one a diamond;

(3) When making way through the water, masthead lights, sidelights and a sternlight, in addition to the lights prescribed in subparagraph (b)(1); and

(4) When at anchor, in addition to the lights or shapes prescribed in subparagraphs (b)(1) and (2), the light, lights or shapes prescribed in Rule 30.

(c) Vessels engaged in towing operations. A vessel engaged in a towing operation which severely restricts the towing vessel and her tow in their ability to deviate from their course shall, in addition to the lights or shapes prescribed in subparagraphs (b)(1) and (2) of this Rule, exhibit the lights or shape prescribed in Rule 24.

(d) Vessels engaged in dredging or underwater operations. A vessel engaged in dredging or underwater operations, when restricted in her ability to maneuver, shall exhibit the lights and shapes prescribed in subparagraphs (b)(1), (2), and (3) of this Rule and shall in addition, when an obstruction exists, exhibit:

(1) Two all-round red lights or two balls in a vertical line to indicate the side on which the obstruction exists;

(2) Two all-round green lights or two diamonds in a vertical line to indicate the side on which another vessel may pass; and

(3) When at anchor, the lights or shape prescribed by this paragraph, instead of the lights or shapes prescribed in Rule 30 for anchored vessels.

(e) Vessels engaged in diving operations. Whenever the size of a vessel engaged in diving operations makes it impracticable to exhibit all lights and shapes prescribed in paragraph (d) of this Rule, the following shall instead be exhibited:

(1) Three all-round lights in a vertical line where they can best be seen. The highest and lowest of these lights shall be red and the middle light shall be white.

(2) A rigid replica of the international Code flag ”A” not less than 1 meter in height. Measures shall be taken to insure its all-round visibility.

(f) Vessels engaged in mineclearance operations. A vessel engaged in mineclearance operations shall, in addition to the lights prescribed for a power-driven vessel in Rule 23 or to the lights or shape prescribed for a vessel at anchor in Rule 30, as appropriate, exhibit three all-round green lights or three balls. One of these lights or shapes shall be exhibited near the foremast head and one at each end of the fore yard. These lights or shapes indicate that it is dangerous for another vessel to approach within 1,000 meters of the mineclearance vessel.

(g) Vessels of less than 12 meters in length. A vessel of less than 12 meters in length, except when engaged in diving operations, is not required to exhibit the lights or shapes prescribed in this Rule.

(h) Signals of vessels in distress and requiring assistance. The signals prescribed in this Rule are not signals of vessels in distress and requiring assistance. Such signals are contained in Annex IV to these Rules.

§ 83.28 [Reserved] (Rule 28).

§ 83.29 Pilot vessels (Rule 29).

(a) Vessels engaged on pilotage duty. A vessel engaged on pilotage duty shall exhibit:

(1) At or near the masthead, two all-round lights in a vertical line, the upper being white and the lower red;

(2) When underway, in addition, sidelights and a sternlight; and

(3) When at anchor, in addition to the lights prescribed in subparagraph (1), the anchor light, lights, or shape prescribed in Rule 30 for anchored vessels.

(b) Vessels when not engaged on pilotage duty. A pilot vessel when not engaged on pilotage duty shall exhibit the lights or shapes prescribed for a vessel of her length.

§ 83.30 Anchored vessels and vessels aground (Rule 30).

(a) Vessels at anchor. A vessel at anchor shall exhibit where it can best be seen:

(1) In the fore part, an all-round white light or one ball; and

(2) At or near the stern and at a lower level than the light prescribed in subparagraph (1), an all-round white light.

(b) Vessels of less than 50 meters in length; alternative light. A vessel of less than 50 meters in length may exhibit an all-round white light where it can best be seen instead of the lights prescribed in paragraph (a) of this Rule.

(c) Illumination of decks. A vessel at anchor may, and a vessel of 100 meters or more in length shall, also use the available working or equivalent lights to illuminate her decks.

(d) Vessels aground. A vessel aground shall exhibit the lights prescribed in paragraph (a) or (b) of this Rule and in addition, if practicable, where they can best be seen:

(1) Two all-round red lights in a vertical line; and

(2) Three balls in a vertical line.

(e) Vessels of less than 7 meters in length when at anchor. A vessel of less than 7 meters in length, when at anchor, not in or near a narrow channel, fairway, anchorage, or where other vessels normally navigate, shall not be required to exhibit the lights or shape prescribed in paragraphs (a) and (b) of this Rule.

(f) Vessels of less than 12 meters in length when aground. A vessel of less than 12 meters in length when aground shall not be required to exhibit the lights or shapes prescribed in subparagraphs (d)(1) and (2) of this Rule.

(g) Vessels of less than 20 meters in length while at anchor in special anchorage. A vessel of less than 20 meters in length, when at anchor in a special anchorage area designated by the Secretary, shall not be required to exhibit the anchor lights and shapes required by this Rule.

§ 83.31 Seaplanes (Rule 31).

Where it is impracticable for a seaplane to exhibit lights and shapes of the characteristics or in the positions prescribed in the Rules of this part she shall exhibit lights and shapes as closely similar in characteristics and position as is possible.

Subpart D—Sound and Light Signals

§ 83.32 Definitions (Rule 32).

(a) Whistle means any sound signaling appliance capable of producing the prescribed blasts and which complies with specifications in Annex III to these Rules.

(b) Short blast means a blast of about 1 second's duration.

(c) Prolonged blast means a blast of from 4 to 6 second's duration.

§ 83.33 Equipment for sound signals (Rule 33).

(a) Vessels of 12 meters or more in length. A vessel of 12 meters or more in length shall be provided with a whistle and a bell and a vessel of 100 meters or more in length shall, in addition, be provided with a gong, the tone and sound of which cannot be confused with that of the bell. The whistle, bell and gong shall comply with the specifications in Annex III to these Rules. The bell or gong or both may be replaced by other equipment having the same respective sound characteristics, provided that manual sounding of the prescribed signals shall always be possible.

(b) Vessels of less than 12 meters in length. A vessel of less than 12 meters in length shall not be obliged to carry the sound signaling appliances prescribed in paragraph (a) of this Rule but if she does not, she shall be provided with some other means of making an efficient sound signal.

§ 83.34 Maneuvering and warning signals (Rule 34).

(a) Whistle signals. When power-driven vessels are in sight of one another and meeting or crossing at a distance within half a mile of each other, each vessel underway, when maneuvering as authorized or required by these Rules:

(1) Shall indicate that maneuver by the following signals on her whistle: one short blast to mean “I intend to leave you on my port side”; two short blasts to mean “I intend to leave you on my starboard side”; and three short blasts to mean “I am operating astern propulsion”.

(2) Upon hearing the one or two blast signal of the other shall, if in agreement, sound the same whistle signal and take the steps necessary to effect a safe passing. If, however, from any cause, the vessel doubts the safety of the proposed maneuver, she shall sound the danger signal specified in paragraph (d) of this Rule and each vessel shall take appropriate precautionary action until a safe passing agreement is made.

(b) Light signals. A vessel may supplement the whistle signals prescribed in paragraph (a) of this Rule by light signals:

(1) These signals shall have the following significance: one flash to mean “I intend to leave you on my port side”; two flashes to mean “I intend to leave you on my starboard side”; three flashes to mean “I am operating astern propulsion”;

(2) The duration of each flash shall be about 1 second; and

(3) The light used for this signal shall, if fitted, be one all-round white or yellow light, visible at a minimum range of 2 miles, synchronized with the whistle, and shall comply with the provisions of Annex I to these Rules.

(c) Overtaking situations. When in sight of one another:

(1) A power-driven vessel intending to overtake another power-driven vessel shall indicate her intention by the following signals on her whistle: one short blast to mean “I intend to overtake you on your starboard side”; two short blasts to mean “I intend to overtake you on your port side”; and

(2) The power-driven vessel about to be overtaken shall, if in agreement, sound a similar sound signal. If in doubt she shall sound the danger signal prescribed in paragraph (d).

(d) Doubts or failure to understand signals. When vessels in sight of one another are approaching each other and from any cause either vessel fails to understand the intentions or actions of the other, or is in doubt whether sufficient action is being taken by the other to avoid collision, the vessel in doubt shall immediately indicate such doubt by giving at least five short and rapid blasts on the whistle. This signal may be supplemented by a light signal of at least five short and rapid flashes.

(e) Vessels in areas of obscured visibility due to intervening obstructions. A vessel nearing a bend or an area of a channel or fairway where other vessels may be obscured by an intervening obstruction shall sound one prolonged blast. This signal shall be answered with a prolonged blast by any approaching vessel that may be within hearing around the bend or behind the intervening obstruction.

(f) Use of one whistle only on a vessel. If whistles are fitted on a vessel at a distance apart of more than 100 meters, one whistle only shall be used for giving maneuvering and warning signals.

(g) Power-driven vessels leaving dock or berth. When a power-driven vessel is leaving a dock or berth, she shall sound one prolonged blast.

(h) Agreement between vessels using radiotelephone. A vessel that reaches agreement with another vessel in a head-on, crossing, or overtaking situation, as for example, by using the radiotelephone as prescribed by the Vessel Bridge-to-Bridge Radiotelephone Act (85 Stat. 164; 33 U.S.C. 1201 et seq.), is not obliged to sound the whistle signals prescribed by this Rule, but may do so. If agreement is not reached, then whistle signals shall be exchanged in a timely manner and shall prevail.

§ 83.35 Sound signals in restricted visibility (Rule 35).

In or near an area of restricted visibility, whether by day or night, the signals prescribed in this Rule shall be used as follows:

(a) Power-driven vessels making way through the water. A power-driven vessel making way through the water shall sound at intervals of not more than 2 minutes one prolonged blast.

(b) Power-driven vessels underway but stopped and making no way through the water. A power-driven vessel underway but stopped and making no way through the water shall sound at intervals of not more than 2 minutes two prolonged blasts in succession with an interval of about 2 seconds between them.

(c) Vessels not under command; vessels restricted in ability to maneuver; sailing vessels; vessels engaged in fishing; vessels engaged in towing or pushing. A vessel not under command; a vessel restricted in her ability to maneuver, whether underway or at anchor; a sailing vessel; a vessel engaged in fishing, whether underway or at anchor; and a vessel engaged in towing or pushing another vessel shall, instead of the signals prescribed in paragraphs (a) or (b) of this Rule, sound at intervals of not more than 2 minutes, three blasts in succession; namely, one prolonged followed by two short blasts.

(d) Vessels towed. A vessel towed or if more than one vessel is towed the last vessel of the tow, if manned, shall at intervals of not more than 2 minutes sound four blasts in succession; namely, one prolonged followed by three short blasts. When practicable, this signal shall be made immediately after the signal made by the towing vessel.

(e) Pushing and pushed vessels connected in composite unit. When a pushing vessel and a vessel being pushed ahead are rigidly connected in a composite unit they shall be regarded as a power-driven vessel and shall give the signals prescribed in paragraphs (a) or (b) of this Rule.

(f) Vessels at anchor. A vessel at anchor shall at intervals of not more than 1 minute ring the bell rapidly for about 5 seconds. In a vessel of 100 meters or more in length the bell shall be sounded in the forepart of the vessel and immediately after the ringing of the bell the gong shall be sounded rapidly for about 5 seconds in the after part of the vessel. A vessel at anchor may in addition sound three blasts in succession; namely, one short, one prolonged and one short blast, to give warning of her position and of the possibility of collision to an approaching vessel.

(g) Vessels aground. A vessel aground shall give the bell signal and if required the gong signal prescribed in paragraph (f) of this Rule and shall, in addition, give three separate and distinct strokes on the bell immediately before and after the rapid ringing of the bell. A vessel aground may in addition sound an appropriate whistle signal.

(h) Vessels of less than 12 meters in length. A vessel of less than 12 meters in length shall not be obliged to give the above-mentioned signals but, if she does not, shall make some other efficient sound signal at intervals of not more than 2 minutes.

(i) Pilot vessels. A pilot vessel when engaged on pilotage duty may in addition to the signals prescribed in paragraphs (a), (b) or (f) of this Rule sound an identity signal consisting of four short blasts.

(j) Vessels anchored in special anchorage areas. The following vessels shall not be required to sound signals as prescribed in paragraph (f) of this Rule when anchored in a special anchorage area designated by the Secretary:

(1) A vessel of less than 20 meters in length; and

(2) A barge, canal boat, scow, or other nondescript craft.

§ 83.36 Signals to attract attention (Rule 36).

If necessary to attract the attention of another vessel, any vessel may make light or sound signals that cannot be mistaken for any signal authorized elsewhere in these Rules, or may direct the beam of her searchlight in the direction of the danger, in such a way as not to embarrass any vessel.

§ 83.37 Distress signals (Rule 37).

When a vessel is in distress and requires assistance she shall use or exhibit the signals described in Annex IV to these Rules.

Subpart E—Exemptions

§ 83.38 Exemptions (Rule 38).

Any vessel or class of vessels, the keel of which is laid or which is at a corresponding stage of construction before December 24, 1980, provided that she complies with the requirements of—

(a) The Act of June 7, 1897, (30 Stat. 96), as amended (33 U.S.C. 154-232) for vessels navigating the waters subject to that statute;

(b) Section 4233 of the Revised Statutes (33 U.S.C. 301-356) for vessels navigating the waters subject to that statute;

(c) The Act of February 8, 1895 (28 Stat. 645), as amended (33 U.S.C. 241-295) for vessels navigating the waters subject to that statute; or

(d) Sections 3, 4, and 5 of the Act of April 25, 1940 (54 Stat. 163), as amended (46 U.S.C. 526b, c, and d) for motorboats navigating the waters subject to that statute; shall be exempted from compliance with the technical Annexes to these Rules as follows:

(1) The installation of lights with ranges prescribed in Rule 22, until 4 years after the effective date of the Inland Navigational Rules Act of 1980 (Pub. L. 96-591), except that vessels of less than 20 meters in length are permanently exempt;

(2) The installation of lights with color specifications as prescribed in Annex I to these Rules, until 4 years after the effective date of the Inland Navigational Rules Act of 1980 (Pub. L. 96-591), except that vessels of less than 20 meters in length are permanently exempt;

(3) The repositioning of lights as a result of conversion to metric units and rounding off measurement figures, are permanently exempt; and

(4) The horizontal repositioning of masthead lights prescribed by Annex I to these Rules:

(i) On vessels of less than 150 meters in length, permanent exemption.

(ii) On vessels of 150 meters or more in length, until 9 years after the effective date of the Inland Navigational Rules Act of 1980 (Pub. L. 96-591).

(5) The restructuring or repositioning of all lights to meet the prescriptions of Annex I to these, until 9 years after the effective date of the Inland Navigational Rules Act of 1980 (Pub. L. 96-591);

(6) Power-driven vessels of 12 meters or more but less than 20 meters in length are permanently exempt from the provisions of Rule 23(a)(1) and 23(a)(4) provided that, in place of these lights, the vessel exhibits a white light aft visible all round the horizon; and

(7) The requirements for sound signal appliances prescribed in Annex III to these Rules, until 9 years after the effective date of the Inland Navigational Rules Act of 1980 (Pub. L. 96-591).

Dated: March 31, 2010.
Kevin S. Cook,
Rear Admiral, U.S. Coast Guard, Director of Prevention Policy.

[FR Doc. 2010-8532 Filed 4-14-10; 8:45 am]

BILLING CODE 9110-04-P